DEPARTMENT OF AGRICULTURE

Forest Service

Black Hills National Forest, Mystic Ranger District, SD, Prairie Project Area Proposal and Analysis

AGENCY: Forest Service, USDA.

ACTION: Notice of intent to prepare an environmental impact statement.

SUMMARY: The Forest Service will prepare an environmental impact statement on a proposal to implement multiple resource management actions within the Prairie Project Area as directed by the Black Hills National Forest Land and Resource Management Plan. The Prairie Project Area covers about 29,000 acres of National Forest System land and about 6,300 acres of interspersed private land within the lower Rapid Creek watershed directly west of Rapid City, South Dakota. Proposed actions include: Promoting natural fuel breaks (via vegetation treatment) to reduce potential for large-scale intense wildfire; Reduction of fuels that currently exist and fuel created by vegetation treatment within the wildland-urban interface; Wildlife habitat improvement to protect critical big game winter range and habitat for a variety of plant and animal species; Supporting the preceding actions using Vegetation treatments on an estimated 8,000 acres to reduce the density of pine trees and restore hardwoods; Providing a mix of motorized and non-motorized use opportunities.

DATES: Comments concerning the scope of the analysis must be received by August 19, 2002. The draft environmental impact statement is expected to be available for public review by November 2002 and the final environmental impact statement is expected to be completed by March 2003.

ADDRESSES: Send written comments to Robert J. Thompson, District Ranger, Black Hills National Forest, Mystic Ranger District, 803 Soo San Drive, Rapid City, South Dakota 57702. Telephone Number: (605) 343-1567. e-mail: mailroom_r2_blackhills@fs.fed.us. With “Prairie” as subject.

FOR FURTHER INFORMATION CONTACT: Phill Grumstrup, Project coordinator, Black Hills National Forest, Mystic Ranger District, at above address, phone (605) 343-1567.

SUPPLEMENTARY INFORMATION: The actions proposed are in direct response to management direction provided by the Black Hills National Forest Land and Resource Management Plan (Forest Plan). The site specific actions are designed based on Forest Plan Standards and Guidelines to promote existing resource conditions in the Prairie Project Area toward meeting Forest Plan Goals and Objectives. The project area lies along the east side of the Black Hills National Forest and directly west of Rapid City, South Dakota. Anticipated issues include: fire and fuels hazard in the wildland-urban interface; support and opposition to vegetation treatment such as timber harvest; impacts of vegetation treatment and multiple forest uses on wildlife habitat; conflicting motorized and non-motorized use and travel management issues; maintaining and improving developed and dispersed recreation opportunities.

Purpose and Need for Action

The purpose of and need for the actions proposed in the Prairie Project is to: Reduce the potential for large-scale intense wildfire, reduce fuel loads and assure access for fire protection; Protect big game winter range and provide habitat for a variety of plant and animal species; and provide for a variety of recreation opportunities including motorized and non-motorized uses while moving toward or meeting related Forest Plan Goals and Objectives, consistent with Forest Plan Standards and Guidelines.

Proposed Action

Proposed actions include the following:

• Reduce the potential for large-scale, intense wildfire by developing and maintaining natural fuel breaks. This action includes thinning the forest, removing conifers from hardwood stands such as aspen, bur oak and birch and by expanding and/or creating meadows.

• Reduce the amount of fuel that currently exists and fuel created by vegetation treatment activities. Treatment could include lopping, chipping, crushing, piling and burning; construction of up to 30 miles of constructed fuel breaks adjacent to private property, particularly those properties with houses and subdivisions; and prescribed burning of up to 4,000 acres to reduce fuels and benefit wildlife habitat.

• Manage big game winter range by providing opening for forage and protecting game animals during the critical winter period over a large portion of the area by expanding area closures to off-road motorized use seasonally or year-round.

• Support the preceding actions by treating up to 8,000 acres of vegetation to reduce the density of pine trees. This may be done by using commercial timber harvest to thin out commercial size trees and using other methods to thin small, non-commercial size trees. Thinning trees will reduce the potential for spreading crown fires by providing fuel breaks, lessening the risk from insects and disease, improving stand growth and vigor, and providing wood-fiber products for the local economy.

• Provide a mix of motorized and non-motorized opportunities in the area by designating some areas for off-road ATV/4-wheeler use and other areas for non-motorized uses such as hiking, mountain biking and walk-in hunting.

Responsible Official

John C. Twiss, Forest Supervisor, Black Hills National Forest, Highway 385 North RR 2, Box 200, Custer, SD 57730.

Nature of Decision To Be Made

The decision to be made is whether or not to implement the proposed action or alternatives at this time.

Scoping Process

Comments and input regarding the proposal will be requested via direct mailing from the public, other groups and agencies during the 30-day (plus) public comment period in July and August 2002. Also, response to the draft EIS will be sought from the interested public in November-December 2002.

Comment Requested

This notice of intent initiates the scoping process which guides the development of the environmental impact statement. It is our desire to involve interested parties and especially adjacent landowners in identifying the issues related to proposed activities. Comments will assist the planning team identify key issues and opportunities used to develop project alternatives and mitigation measures.

Early Notice of Importance of Public Participation in Subsequent Environmental Review

A draft environmental impact statement will be prepared for comment. The comment period on the draft environmental impact statement will be for 45 days (beginning around November 1, 2002) from the date the Environmental Protection Agency publishes the Notice of Availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, section 21)

Dated: July 8, 2002.
John C. Twiss,
Forest Supervisor.

[FR Doc. 02-17506 Filed 7-11-02; 8:45 am]

BILLING CODE 3410-11-M